DEPARTMENT OF COMMERCE

National Oceanic and Atmospheric Administration

50 CFR Part 622

[Docket No. 231101-0256; RTID 0648-XD766]

Fisheries of the Caribbean, Gulf of Mexico, and South Atlantic; 2024 Recreational Fishing Season and Closure Date for Blueline Tilefish in the South Atlantic

AGENCY: National Marine Fisheries Service (NMFS), National Oceanic and Atmospheric Administration (NOAA), Commerce.

ACTION: Temporary rule; recreational fishing season.

SUMMARY: NMFS announces the 2024 recreational fishing season for blueline tilefish in South Atlantic Federal waters. Announcing the length of the recreational season is part of the accountability measures (AMs) for the recreational sector. The recreational season opens on May 1, 2024, and NMFS has projected that recreational landings of blueline tilefish will reach the recreational annual catch limit (ACL) after July 18, 2024. Therefore, NMFS closes the recreational sector for blueline tilefish on July 19, 2024. The recreational season length and closure are necessary to protect the blueline tilefish resource in South Atlantic Federal waters.

DATES: This temporary rule is effective from July 19, 2024, through December 31, 2024.

FOR FURTHER INFORMATION CONTACT: Mary Vara, NMFS Southeast Region, telephone: 727-824-5305, email: mary.vara@noaa.gov.

SUPPLEMENTARY INFORMATION: The snapper-grouper fishery of the South Atlantic includes blueline tilefish and is managed under the Fishery Management Plan for the Snapper-Grouper Fishery of the South Atlantic Region (FMP). The FMP was prepared by the South Atlantic Fishery Management Council and is implemented by NMFS under the authority of the Magnuson-Stevens Fishery Conservation and Management Act (Magnuson-Stevens Act) by regulations at 50 CFR part 622. The weights given in this temporary rule are in round weight.

The final rule for Abbreviated Framework 3 to the FMP implemented the recreational ACL for blueline tilefish of 116,820 pounds (52,989 kilograms) (85 FR 43145, July 16, 2020). NMFS recently revised the recreational AMs for blueline tilefish through the final rule for Amendment 52 to the FMP (88 FR 76696, November 7, 2023). Regulations for blueline tilefish at 50 CFR 622.193(z)(2) require NMFS to project the length of the recreational fishing season based on catch rates from the previous fishing year and when NMFS projects the recreational ACL to be met in the current fishing year and then to announce the season end date in the Federal Register.

The recreational season for blueline tilefish will open on May 1, 2024. Data from the NMFS Southeast Fisheries Science Center informed the projection that recreational landings of South Atlantic blueline tilefish will reach the recreational ACL after July 18, 2024. Accordingly, on July 19, 2024, NMFS closes the recreational sector for blueline tilefish. During a recreational closure for blueline tilefish in South Atlantic Federal waters, the bag and possession limits are zero.

The next recreational fishing season for blueline tilefish in South Atlantic Federal waters opens on May 1, 2025. As described in 50 CFR 622.183(b)(7), the recreational sector for blueline tilefish in or from South Atlantic Federal waters is closed each year from January 1 through April 30 and from September 1 through December 31.

Classification

NMFS issues this action pursuant to section 305(d) of the Magnuson-Stevens Act. This action is required by 50 CFR 622.193(z)(2), issued pursuant to section 304(b), and is exempt from review under Executive Order 12866.

Pursuant to 5 U.S.C. 553(b)(B), there is good cause to waive prior notice and an opportunity for public comment on this action, as notice and comment is unnecessary and contrary to the public interest. Such procedures are unnecessary because the regulations associated with the recreational harvest of blueline tilefish have already been subject to notice and public comment, and all that remains is to notify the public of the recreational season end date and the recreational closure. Prior notice and opportunity for public comment on this action is contrary to the public interest because of the need to protect the South Atlantic blueline tilefish resource. Additionally, providing as much advance notice to the public of this closure allows charter vessel and headboat businesses that fish for blueline tilefish to prepare for the rest of the fishing season and to schedule or reschedule trips for their clients and to maximize opportunities for their business revenues and profits.

Authority: 16 U.S.C. 1801 et seq.

Dated: March 12, 2024.
Everett Wayne Baxter,
Acting Director, Office of Sustainable Fisheries, National Marine Fisheries Service.

[FR Doc. 2024-05616 Filed 3-15-24; 8:45 am]

BILLING CODE 3510-22-P